DEPARTMENT OF ENERGY

Federal Energy Regulatory Commission

Combined Notice of Filings #1

Take notice that the Commission received the following electric corporate filings:

Docket Numbers: EC17-147-000.

Applicants: SunE Beacon Site 2 LLC, SunE Beacon Site 5 LLC.

Description: Application for Authorization under Section 203 of the Federal Power Act and Requests for Confidential Treatment, Expedited Consideration, and Waivers of SunE Beacon Site 2 LLC, et. al.

Filed Date: 8/1/17.

Accession Number: 20170801-5262.

Comments Due: 5 p.m. ET 8/22/17.

Take notice that the Commission received the following electric rate filings:

Docket Numbers: ER10-2265-013; ER10-1581-019; ER10-2262-007; ER10-2346-009; ER10-2353-009; ER10-2355-009; ER10-2783-014; ER10-2784-014; ER10-2795-014; ER10-2798-014; ER10-2799-014; ER10-2801-014; ER10-2875-014; ER10-2878-014; ER10-2879-014; ER10-2880-014; ER10-2896-014; ER10-2913-014; ER10-2947-014; ER10-2969-014; ER10-3223-008; ER11-2062-022; ER11-2107-013; ER11-2108-013; ER11-2508-021; ER11-2805-021; ER11-2863-011; ER11-4307-022; ER11-4308-022; ER11-4351-009; ER12-261-021; ER13-1745-009; ER13-1788-009; ER13-1789-009; ER13-1801-009; ER13-1802-009; ER13-1965-012; ER14-1818-013; ER16-10 002.

Applicants: NRG Power Marketing LLC, Arthur Kill Power LLC, Astoria Gas Turbine Power LLC, Boston Energy Trading and Marketing LLC, Conemaugh Power LLC, Connecticut Jet Power LLC, Devon Power LLC, Dunkirk Power LLC, El Segundo Power, LLC, Energy Plus Holdings LLC, Forward WindPower LLC, GenOn Energy Management, LLC, GenOn Mid-Atlantic, LLC, Green Mountain Energy Company, Independence Energy Group LLC, Indian River Power LLC, Keystone Power LLC, Lookout Windpower, LLC, Middletown Power LLC, Midwest Generation, LLC, Montville Power LLC, NEO Freehold-Gen LLC, North Community Turbines LLC, North Wind Turbines LLC, NRG Bowline LLC, NRG Canal LLC, NRG Chalk Point CT LLC, NRG Chalk Point LLC, NRG Energy Center Dover LLC, NRG Energy Center Paxton LLC, NRG Power Midwest LP, NRG REMA LLC, NRG Wholesale Generation LP, Oswego Harbor Power LLC, Pinnacle Wind, LLC, Reliant Energy Northeast LLC, RRI Energy Services, LLC, Vienna Power LLC, Long Beach Peakers LLC.

Description: Supplement to June 28, 2017 Updated Market Power Analysis of the NRG Northeast MBR Sellers.

Filed Date: 8/1/17.

Accession Number: 20170801-5273.

Comments Due: 5 p.m. ET 8/22/17.

Docket Numbers: ER17-2218-000.

Applicants: PJM Interconnection, L.L.C.

Description: § 205(d) Rate Filing: Revisions to PJM-MISO JOA re: Implementation/Operation of Pseudo-Ties to be effective 10/1/2017.

Filed Date: 8/1/17.

Accession Number: 20170801-5217.

Comments Due: 5 p.m. ET 8/22/17.

Docket Numbers: ER17-2219-000.

Applicants: System Energy Resources, Inc.

Description: Baseline eTariff Filing: UPSA Amendment to be effective 10/1/2017.

Filed Date: 8/1/17.

Accession Number: 20170801-5224.

Comments Due: 5 p.m. ET 8/22/17.

Docket Numbers: ER17-2220-000.

Applicants: Midcontinent Independent System Operator, Inc.

Description: § 205(d) Rate Filing: 2017-08-01_MISO-PJM JOA revisions to improve administration of pseudo-ties to be effective 10/1/2017.

Filed Date: 8/1/17.

Accession Number: 20170801-5239.

Comments Due: 5 p.m. ET 8/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2017.
Nathaniel J. Davis, Sr.,
Deputy Secretary.

[FR Doc. 2017-16757 Filed 8-8-17; 8:45 am]

BILLING CODE 6717-01-P